FEDERAL MINE SAFETY AND HEALTH REVIEW COMMISSION

Sunshine Act; Notice of Meeting

June 17, 2009.

TIME AND DATE: 10 a.m., Wednesday, July 1, 2009

PLACE: The Richard V. Backley Hearing Room, 9th Floor, 601 New Jersey Avenue, NW., Washington, DC.

STATUS: Open

MATTERS TO BE CONSIDERED: The Commission will consider and act upon the following in open session: Secretary of Labor v. Musser Engineering, Inc., and PBS Coals, Inc., Docket Nos. PENN 2004-152 and PENN 2004-158. (Issues include whether Musser and PBS violated 29 CFR 75.1200 when the operator of the Quecreek mine failed to maintain an accurate mine map showing the boundaries of adjacent abandoned mine workings, whether the alleged violations were “significant and substantial,” whether the companies were guilty of gross negligence, and whether the Administrative Law Judge properly increased the proposed penalty amounts.)

Any person attending this meeting who requires special accessibility features and/or auxiliary aids, such as sign language interpreters, must inform the Commission in advance of those needs. Subject to 29 CFR 2706.150(a)(3) and § 2706.160(d).

CONTACT PERSON FOR MORE INFO: Jean Ellen (202) 434-9950/(202) 708-9300 for TDD Relay/1-800-877-8339 for toll free.

Jean H. Ellen,
Chief Docket Clerk.

[FR Doc. E9-14964 Filed 6-22-09; 11:15 am]

BILLING CODE P